DEPARTMENT OF COMMERCE

National Oceanic and Atmospheric Administration

50 CFR Part 223

[Docket No. 050323081-5081-01; I.D. 031505C]

RIN 0648-AT02

Endangered and Threatened Species: Notification of Public Hearing on Proposed Listing Determination for the Southern Distinct Population Segment (DPS) of North American Green Sturgeon as Threatened under the Endangered Species Act (ESA)

AGENCY: National Marine Fisheries Service (NMFS), National Oceanic and Atmospheric Administration (NOAA), Commerce.

ACTION: Proposed rule: notification of public hearing.

SUMMARY: On April 6, 2005, NMFS proposed threatened status for the Southern Distinct Population Segment (DPS) of North American green sturgeon (Acipenser medirostris; hereafter “green sturgeon”) under the Endangered Species Act (ESA) of 1973. In this notice, NMFS is announcing that a public hearing has been scheduled at one location in Sacramento, CA, in July 2005 to provide additional opportunities for the public and other interested parties to comment on the subject proposal.

DATES: The hearing will be held on July 6, 2005, from 6:30 p.m. - 9:30 p.m.

Written comments on the proposed threatened listing for the Southern green sturgeon DPS must be received by July 6, 2005.

ADDRESSES: The hearing will be held in the Stanford Room at 650 Capitol Mall, Suite 8-300 Sacramento, CA 95814. Please enter the building through the main entrance, which is located on the Capitol Mall side of the building.

You may submit comments on the proposed threatened listing of the Southern green sturgeon DPS, identified by Docket Number 050323081-5081-01 and RIN 0648-AT02, by any of the following methods:

• E-mail: GreenSturgeon.Comments@noaaa.gov. Include docket number and RIN number in the subject line of the message.

• Federal e-Rulemaking Portal: http://www.regulations.gov. Follow the instructions for submitting comments.

• Mail: Submit written comments and information to Assistant Regional Administrator, NMFS, Protected Resources Division, 501 W. Ocean Blvd., Suite 4200, Long Beach, California, 90802-4213. You may hand-deliver written comments to our office during normal business hours at the address given above.

• Fax: 562-980-4027.

FOR FURTHER INFORMATION CONTACT: Melissa Neuman, NMFS, Southwest Region, (562) 980-4115; or Lisa Manning, NMFS, Office of Protected Resources, (301) 713-1401.

SUPPLEMENTARY INFORMATION:

Background

On April 6, 2005, NMFS proposed threatened status for the Southern DPS of green sturgeon under the ESA (70 FR 17386). The Southern DPS of green sturgeon includes coastal and Central Valley populations south of the Eel River, with the only known population in the Sacramento River. The public comment period for this proposal opened on April 6, 2005, and was originally scheduled to close on July 5, 2005. NMFS is extending the deadline for written comments to coincide with the date of the public hearing (July 6, 2005).

Public Hearing

Joint U.S. Department of Commerce and U.S. Department of the Interior ESA implementing regulations state that the Secretary shall promptly hold at least one public hearing if any person requests one within 45 days of publication of a proposed regulation to list a species or to designate critical habitat (see 50 CFR 424.16(c)(3)). Although no requests were received, NMFS is holding a public hearing to provide an additional opportunity for the public and other interested parties to comment on the subject proposal. One public hearing will be held in California on the specific date and at the specific location listed here:

Please be advised that weapons, cameras, and cell phones with cameras are prohibited in the building. Members of the public attempting to enter 650 Capitol Mall with any of these items will be denied access and will be asked to return said item(s) to their vehicle before entering the building.

NMFS has scheduled this hearing to allow affected stakeholders and members of the public the opportunity to provide comments directly to agency staff. However, this public meeting is not the only opportunity for the public to provide input on this proposal. The public and stakeholders are encouraged to provide written input to NMFS on the proposal (via correspondence, e-mail, fax, and the Internet; see ADDRESSES, above) during the public comment period, which closes on July 6, 2005.

References

Copies of the Federal Register notices and related materials cited herein are available on the Southwest Region's website at http://swr.nmfs.noaa.gov. or upon request (see ADDRESSES section above).

Dated: June 13, 2005.
James H. Lecky,
Director, Office of Protected Resources, National Marine Fisheries Service.

[FR Doc. 05-12105 Filed 6-17-05; 8:45 am]

BILLING CODE 3510-22-S